DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

2004 National Survey on Drug Use and Health—(OMB No. 0930-0110, Revision)—The National Survey on Drug Use and Health (NSDUH), formerly the National Household Survey on Drug Abuse (NHSDA), is a survey of the civilian, noninstitutionalized population of the United States 12 years old and older. The data are used to determine the prevalence of use of tobacco products, alcohol, illicit substances, and illicit use of prescription drugs. The results are used by SAMHSA, ONDCP, Federal government agencies, and other organizations and researchers to establish policy, direct program activities, and better allocate resources.

As with all NSDUH/NHSDA surveys conducted since 1999, the sample size of the survey for 2004 will be sufficient to permit prevalence estimates for each of the fifty states and the District of Columbia. For the 2004 survey, additional questions in the following substantive areas are planned: adult mental health treatment (three additional questions to obtain more detail on unmet mental health treatment need, and on alternative mental health treatment received); drug treatment (four questions on age at first treatment for alcohol and/or drug use); prior substance use (expanded 2003's prior marijuana and cigarette use module to collect information on age at last use for each core substance respondent reported last using over 30 days); depression (separate modules for adolescents and adults based on adaptations of existing modules used in the National Comorbidity Survey). The following questions are planned to be deleted from the 2004 survey: speciality cigarettes (questions about clove and bidi use); amount paid for cigarettes in the past 30 days; and youth access to cigarettes. Three to four years of data have been collected on these questions, which may be included again in future surveys as the need arises. The total annual burden estimate is shown below:

| Number of respondents | Responses per respondent | Average burden per response (hr.) | Total burden (hrs)
Household Screening | 182,250 | 1 | 0.083 | 15,127
Interview | 67,500 | 1 | 1.0 | 67,500
Screening Verification | 5,559 | 1 | 0.067 | 372
Interview Verification | 10,125 | 1 | 0.067 | 678
Total | 182,250 |  |  | 83,677

Written comments and recommendations concerning the proposed information collection should be sent within 30 days of this notice to: Allison Herron Eydt, Human Resources and Housing Branch, Office of Management and Budget, New Executive Office Building, Room 10235, Washington, DC 20503; due to potential delays in OMB's receipt and processing of mail sent through the U.S. Postal Service, respondents are encouraged to submit comments by fax to: 202-395-6974.

Dated: July 11, 2003.
Anna Marsh,
Acting Executive Officer, SAMHSA.

[FR Doc. 03-18238 Filed 7-17-03; 8:45 am]

BILLING CODE 4162-20-P